DEPARTMENT OF INTERIOR

National Park Service

Proposed Information Collection; Visibility Valuation Survey Pilot Study

AGENCY: National Park Service, U.S. Department of the Interior.

ACTION: Notice; request for comments.

SUMMARY: We (National Park Service) will ask the Office of Management and Budget (OMB) to approve the information collection (IC) described below. As required by the Paperwork Reduction Act of 1995 and as part of our continuing efforts to reduce paperwork and respondent burden, we invite the general public and other Federal agencies to take this opportunity to comment on this IC. We may not conduct or sponsor, and a person is not required to respond to, a collection of information unless it displays a currently valid OMB control number.

DATES: Public comments must be submitted on or before May 6, 2011.

ADDRESSES: Direct all written comments on this IC to Dr. Bruce Peacock, Chief, Social Science Division, Natural Resource Program Center, National Park Service, 1201 Oakridge Drive, Fort Collins, CO 80525-5596 (mail); Bruce_Peacock@nps.gov (e-mail); or 970-267-2106 (phone).

FOR FURTHER INFORMATION CONTACT: Susan Johnson, Air Resources Division, National Park Service, 12795 W. Alameda Parkway, P.O. Box 25287, Denver, Colorado 80225 (mail); Susan_Johnson@nps.gov (e-mail); or (303) 987-6694 (phone).

I. Abstract

The Clean Air Act (Sections 169A, 169B, and 110(a)(2)(j)) charges the NPS with an “affirmative responsibility to protect air quality related values (including visibility).” The NPS believes the value of visibility changes should be represented in cost-benefit analyses regarding state and Federal efforts that may affect visibility (including the Regional Haze Rule, Title 40, Part 51 of the Code of Federal Regulations). Updated estimates of visibility benefits are required because the studies conducted in the 1970s and 1980s do not reflect current baseline visibility conditions in national parks and wilderness areas.

The NPS plans to conduct a nationwide stated preference survey to estimate the value of visibility changes in national parks and wilderness areas. Survey development and pre-testing have already been conducted under a previous IC (OMB Control Number 1024-0255). The purpose of this IC is to conduct a pilot study to test the survey instrument and implementation procedures prior to the full survey. After the pilot is completed, the NPS will submit a revised IC request to OMB for the full survey.

II. Data

OMB Number: None. This is a new collection.

Title: Visibility Valuation Survey Pilot Study.

Type of Request: New.

Affected Public: Individuals or households.

Respondent Obligation: Voluntary.

Estimated Number of Respondents: 1,676 potential respondents; 800 responses.

Estimated Time and frequency of Response: This is a one-time survey estimated to take 20 minutes per respondent to complete.

Estimated Total Annual Burden Hours: 267 hours.

III. Request for Comments

Comments are invited on: (1) The practical utility of the information being gathered; (2) the accuracy of the burden hour estimate; (3) ways to enhance the quality, utility, and clarity of the information to be collected; and (4) ways to minimize the burden to respondents, including use of automated information techniques or other forms of information technology. Comments submitted in response to this notice will be summarized and/or included in the request for OMB approval. All comments will become a matter of public record. While you can ask us in your comment to withhold personal identifying information from public review, we cannot guarantee that we will be able to do so.

Dated: February 28, 2011.
Robert Gordon,
Information Collection Clearance Officer, National Park Service.

[FR Doc. 2011-4983 Filed 3-4-11; 8:45 am]

BILLING CODE 4312-52-P